NATIONAL INDIAN GAMING COMMISSION

25 CFR Part 542

RIN 3141-AA24

Minimum Internal Control Standards; Correction

AGENCY: National Indian Gaming Commission.

ACTION: Proposed rule; correction.

SUMMARY: This document corrects part 542 of a proposed rule published in the Federal Register on December 26, 2001, regarding the Minimum Internal Control Standards. This correction remedies formatting changes made to the proposed rule and clarifies with which sections Tribal gaming operations are to comply.

FOR FURTHER INFORMATION CONTACT: Michele F. Mitchell, 202-632-7003.

Correction

In the proposed rule FR Doc. 01-30788, beginning on page 66500 in the issue of December 26, 2001, make the following correction:

1. On page 66506, in the second column, correct § 542.3(a)(1) to read as follows:

§ 542.3 How do I comply with this part?

(a) Compliance based upon tier.

(1) Tier A gaming operations must comply with §§ 542.1 through 542.18, and §§ 542.20 through 542.23 of this part.

(2) Tier B gaming operations must comply with §§ 542.1 through 542.18, and §§ 542.30 through 542.33 of this part.

(3) Tier C gaming operations must comply with §§ 542.1 through 542.18, and §§ 542.40 through 542.43 of this part.

* * * * *

Dated: January 9, 2002.
Montie R. Deer,
Chairman.
Elizabeth L. Homer,
Vice-Chair.
Teresa E. Poust,
Commissioner.

[FR Doc. 02-882 Filed 1-23-02; 8:45 am]

BILLING CODE 7565-01-P